DEPARTMENT OF COMMERCE

National Oceanic and Atmospheric Administration

[I.D. 080206D]

Marine Mammals; File No. 1097-1859

AGENCY: National Marine Fisheries Service (NMFS), National Oceanic and Atmospheric Administration (NOAA), Commerce.

ACTION: Notice; receipt of application.

SUMMARY: Notice is hereby given that Coral World (V.I.), Inc., 6450 Estate Smith Bay, St. Thomas, Virgin Islands, 00802-1800, (Gertrude J. Prior, Responsible Party) has applied in due form for a permit to import four South American (Patagonian) sea lions (Otaria flavescens) for public display.

DATES: Written, telefaxed, or e-mail comments must be received on or before September 11, 2006.

ADDRESSES: The application and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Avenue South, Saint Petersburg, Florida 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1097-1859.

FOR FURTHER INFORMATION CONTACT: Kate Swails or Jennifer Skidmore, (301)713-2289.

SUPPLEMENTARY INFORMATION: The subject permit is requested under the authority of the Marine Mammal Protection Act of 1972, as amended (MMPA; 16 U.S.C. 1361 et seq.) and the regulations governing the taking and importing of marine mammals (50 CFR part 216).

The applicant requests authorization to import four male South American sea lions from International Sea Lion Search and Rescue, Koh Samui, Thailand to Coral World Ocean Park in St. Thomas, Virgin Islands. The applicant requests this import for the purposes of public display. The receiving facility is aware of the public display criteria for holding marine mammals for public display and their obligation to demonstrate said criteria prior to acquiring these animals. Coral World's programs are open to the public on regularly scheduled basis with access that is not limited or restricted other than by charging for an admission fee. Coral World offers an educational program based on professionally accepted standards and is in the process of receiving an Exhibitor's License, issued by the U.S. Department of Agriculture under the Animal Welfare Act (7 U.S.C. §§ 2131 - 59). The applicant has completed the license inspection and paid the licensing fee.

In addition to determining whether the applicant meets the three public display criteria, NMFS must determine whether the applicant has demonstrated that the proposed activity is humane and does not represent any unnecessary risks to the health and welfare of marine mammals; that the proposed activity by itself, or in combination with other activities, will not likely have a significant adverse impact on the species or stock; and that the applicant's expertise, facilities and resources are adequate to accomplish successfully the objectives and activities stated in the application.

Concurrent with the publication of this notice in the Federal Register, NMFS is forwarding copies of this application to the Marine Mammal Commission and its Committee of Scientific Advisors.

Dated: August 4, 2006.
P. Michael Payne,
Chief, Permits, Conservation and Education Division, Office of Protected Resources, National Marine Fisheries Service.

[FR Doc. E6-13100 Filed 8-9-06; 8:45 am]

BILLING CODE 3510-22-S